DEPARTMENT OF AGRICULTURE

Submission for OMB Review; Comment Request

August 15, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Small Business Timber Set-Aside Program: Appeal Procedures on Recomputation of Shares.

OMB Control Number: 0596-0141.

Summary of Collection: The Conference Report accompanying the 1997 Omnibus Appropriation Act (Pub L. 104-208) requires that the Forest Service (FS) establish a process by which purchasers may appeal decisions concerning recomputations of Small Business Set-aside (SBA) shares or structural recomputations of SBA shares, or changes in policies impacting the Small Business Timber Sale Set-Aside Program. FS adopted the Small Business Timber Sale Set-Aside Program on July 26, 1990. FS administers the program in cooperation with the Small Business Administration under the authorities of the Small Business Act of 1988, the National Forest Management Act of 1976, and SBA's regulations at part 121 of Title 13 of the Code of Federal Regulations. The program is designed to ensure that small business timber purchasers have the opportunity to purchase a fair proportion of National Forest System timber offered for sale.

Need and Use of the Information: Under the program, the FS must recompute the shares of timber sales to be set aside for qualifying small businesses every five years based on the actual volume of saw timber purchased by small businesses. Recomputation of shares must occur if there is a change in manufacturing capability, if the purchaser size class changes, or if certain purchaser(s) discontinue operations. The appeal information is collected in writing and is possible, in most locations to be sent via e-mail and attached documents to a Forest Service Officer. The collected information is reviewed by FS officials who use the information to render decisions related to re-computations of timber sale share to be set-aside for small business timber purchasers.

Description of Respondents: Business or other for-profit.

Number of Respondents: 40.

Frequency of Responses: Reporting: On occasion.

Total Burden Hours: 320.

Charlene Parker,
Departmental Information Collection Clearance Officer.

[FR Doc. 2011-21147 Filed 8-18-11; 8:45 am]

BILLING CODE 3410-11-P